DEPARTMENT OF THE INTERIOR

Fish and Wildlife Service

[FWS-R7-R-2008-N0069; 70133-1265-0000-S3]

Kanuti National Wildlife Refuge, Fairbanks, AK

AGENCY: Fish and Wildlife Service, Interior.

ACTION: Notice of availability of the revised comprehensive conservation plan and finding of no significant impact for environmental assessment.

SUMMARY: We, the U.S. Fish and Wildlife Service (Service) announce the availability of our Revised Comprehensive Conservation Plan (CCP) and Finding of No Significant Impact (FONSI) for the Environmental Assessment (EA) for the Kanuti National Wildlife Refuge (Kanuti Refuge). In this revised CCP, we describe how we will manage this refuge for the next 15 years.

ADDRESSES: You may view or obtain copies of the revised CCP and FONSI by any of the following methods. You may request a paper copy, a summary, or a CD-ROM containing both.

Agency Web Site: Download a copy of the documents at http://alaska.fws.gov/nwr/planning/kanpol.htm.

E-mail: fw7_Kanuti_planning@fws.gov. Please include “Kanuti Refuge revised CCP” in the subject line of the message.

Mail: Peter Wikoff, Planning Team Leader, U.S. Fish and Wildlife Service, 1011 East Tudor Road, MS 231, Anchorage, AK 99503.

In-Person Viewing or Pickup: Call (907) 786-3357 to make an appointment during regular business hours at the USFWS Regional Office, 1011 E. Tudor Road, Anchorage, AK 99503 or call (907) 456-0329 to make an appointment during regular business hours at Kanuti Refuge, 101 12th Ave., Room 262, Fairbanks, AK 99701.

FOR FURTHER INFORMATION CONTACT: Peter Wikoff, planning team leader, (907) 786-3357 or fw7_Kanuti_planning@fws.gov.

SUPPLEMENTARY INFORMATION:

Introduction

With this notice, we finalize the CCP process for the Kanuti Refuge. We started this process through a notice of intent in the Federal Register (68 FR 66475, November 26, 2003) and a revised notice of intent in the Federal Register (71 FR 42117, July 25, 2006). We announced the availability of the draft CCP and EA, and requested comments in a notice of availability in the Federal Register (72 FR 27327, May 15, 2007). We announced an extension of the comment period, until September 15, 2007, with a notice in the Federal Register (72 FR 39438, July 18, 2007).

Kanuti Refuge is roadless and lies on the Arctic Circle about 150 miles northwest of Fairbanks, Alaska. It is situated in a broad basin formed by the Koyukuk and Kanuti rivers between the Brooks Range and the Ray Mountains. The Dalton Highway and Alyeska pipeline lie within eight miles of its eastern boundary. The refuge consists of nearly 1.3 million acres of Federal lands within an external boundary that encompasses approximately 1.6 million acres of Federal, State, and private lands. The landscape consists primarily of rolling hills, wetlands, ponds, and streams. Elevations range from 500 feet to over 3,000 feet. The major natural resources are wildlife, fisheries, and their associated habitats.

We announce our decision and the availability of the FONSI for the revised CCP for the Kanuti Refuge in accordance with National Environmental Policy Act (NEPA) (40 CFR 1506.6(b)) requirements. We completed a thorough analysis of impacts on the human environment in the EA that accompanied the draft revised CCP.

The CCP will guide us in managing and administering the Kanuti Refuge for the next 15 years. The revised CCP is a modification of Alternative C, the preferred alternative in the draft CCP, developed in response to public comments.

Background

The Alaska National Interest Lands Conservation Act of 1980 (94 Stat. 2371; ANILCA) and the National Wildlife Refuge system Improvement Act of 1997 (16 U.S.C. 668dd-668ee) require us to develop a CCP for each Alaska refuge. The purpose for developing a CCP is to provide refuge managers with a 15-year plan for achieving refuge purposes and contributing toward the mission of the National Wildlife Refuge System, consistent with sound principles of fish and wildlife management, conservation, legal mandates, and our policies. We will review and update the CCP at least every 15 years in accordance with national policy and ANILCA. ANILCA requires us is to designate areas according to their respective resources and values and to specify programs and uses within the areas designated. To meet this requirement, the Alaska Region established management categories for refuges including Wilderness, Minimal, Moderate, Intensive, and Wild River management. For each management category we identified appropriate activities, public uses, commercial uses, and facilities. Only the Minimal and Moderate management categories are applied to Kanuti Refuge.

Draft CCP Alternatives

Our draft CCP and EA addressed two issues and evaluated three alternatives. The two significant issues raised during scoping were a desire for conservation of the natural character of the refuge and acceptance of and integration of new management policies and guidelines for refuges in Alaska. Alternative A (the no-action alternative—a NEPA requirement) described what would happen with a continuation of current management activities and served as a baseline for comparison of other alternatives. Under Alternative A, management of the refuge would continue to follow the current course of action. Refuge lands would remain in their present management categories, with 33 percent in Moderate management and 67 percent in Minimal management. Alternative B would convert all refuge lands now in Moderate management to Minimal management and incorporate new regional policies and guidelines for national wildlife refuges in Alaska. Our selected alternative, the slightly modified Alternative C, would reclassify some refuge lands and would incorporate new regional policies and guidelines for national wildlife refuges in Alaska. Eighty-six percent of the refuge would be in Minimal management and 14 percent in Moderate management.

Comments on the Draft CCP

We solicited comments on the draft CCP/EA for Kanuti Refuge from May 15, 2007, through September 15, 2007. During the public review and comment period the Service held public meetings in Alatna, Allakaket, Bettles, Evansville, and Fairbanks. The planning team reviewed, analyzed, and summarized all comments received at the public meetings and in writing. We received a number of comments which suggested changes in the management category boundaries we had proposed in the draft plan. Generally, local residents and community leaders preferred that refuge lands adjoining private lands near their communities be in the moderate management category. Conversely, others preferred to see more of the refuge in the Minimal management category. In response to the comments received, we modified Alternative C, and adopted it as our management direction.

Selected Alternative—Modified Alternative C

Under the selected alternative, 13.6 percent of Federal lands within the refuge boundary are classified Moderate management. The original Alternative C classified 14.7 percent of refuge lands Moderate management. The main changes in the selected alternative were in location of Moderate management lands. In the northwestern portion of the refuge an area, which includes the upper reaches of Henshaw Creek, some Moderate management lands were reclassified Minimal management. The new northwestern boundary of the Moderate management area is offset 2 miles to the north of the Allakaket-Bettles trail. The lower boundary of this area remains the same as in the draft plan. An area of Minimal management south of Evansville and Bettles which is surrounded by private lands was reclassified Moderate management. Also, a smaller area of Minimal management south of Bettles which is surrounded by private lands, Moderate management, and the refuge boundary was reclassified Moderate management.

Dated: November 6, 2008.
Gary Edwards,
Acting Regional Director, U.S. Fish and Wildlife Service, Anchorage, Alaska.

[FR Doc. E8-26912 Filed 11-12-08; 8:45 am]

BILLING CODE 4310-55-P